DEPARTMENT OF HEALTH AND HUMAN SERVICES

Meeting of the National Vaccine Advisory Committee; Correction

AGENCY: Office of Infectious Disease and HIV/AIDS Policy, Office of the Assistant Secretary for Health, Office of the Secretary, Department of Health and Human Services.

ACTION: Notice; correction.

SUMMARY: The Office of the Assistant Secretary for Health published a document in the Federal Register of September 14, 2022, announcing a public meeting to be held meeting June 22-23, 2022. The document referred to the incorrect month and should have read September 22-23, 2022 instead. We also noticed a minor typo to correct and is described in the SUPPLEMENTARY INFORMATION section.

FOR FURTHER INFORMATION CONTACT: Ann Aikin, Acting Designated Federal Officer, at the Office of Infectious Disease and HIV/AIDS Policy, U.S. Department of Health and Human Services, Mary E. Switzer Building, Room L618, 330 C Street SW, Washington, DC 20024. Email: nvac@hhs.gov. Phone: 202-494-1719.

SUPPLEMENTARY INFORMATION:

Correction

In the Federal Register of September 14, 2022, in FR Doc. 2022-19849, on page 56427 in the third column, correct the first sentence of the DATES caption to read: “The meeting will be held September 22-23, 2022.”

On page 56428 in the first column, under SUPPLEMENTARY INFORMATION, in the second paragraph, first sentence, correct the word “influenza” by adding a “z”.

Dated: September 14, 2022.
Ann Aikin,
Acting Designated Federal Official, Office of the Assistant Secretary for Health.

[FR Doc. 2022-20276 Filed 9-19-22; 8:45 am]

BILLING CODE 4150-44-P